NUCLEAR REGULATORY COMMISSION

Notice of Availability of Model Application Concerning Technical Specification Improvement To Eliminate Post Accident Sampling Requirements for Boiling Water Reactors Using the Consolidated Line Item Improvement Process

AGENCY: Nuclear Regulatory Commission.

ACTION: Notice of availability.

SUMMARY: Notice is hereby given that the staff of the Nuclear Regulatory Commission (NRC) has prepared a model application relating to the elimination of post accident sampling requirements for Boiling Water Reactors. The purpose of this model is to permit the NRC to efficiently process amendments that propose to remove requirements for Post Accident Sampling Stations (PASS) from Technical Specifications (TS). Licensees of nuclear power reactors to which the model applies may request amendments utilizing the model application.

DATES: The NRC staff issued a Federal Register Notice (66 FR 66949, December 27, 2001) which provided a model safety evaluation (SE) and a model no significant hazards consideration (NSHC) determination relating to elimination of requirements for PASS for BWRs. The NRC staff hereby announces that the model SE and NSHC determination may be referenced in plant-specific applications to eliminate requirements for post accident sampling. The staff has posted a model application on the NRC web site to assist licensees in using the consolidated line item improvement process (CLIIP) to eliminate PASS-related TS. The NRC staff can most efficiently consider applications based upon the model application if the application is submitted within a year of this Federal Register Notice.

FOR FURTHER INFORMATION CONTACT: Robert Dennig, Mail Stop: O-12H4, Division of Regulatory Improvement Programs, Office of Nuclear Reactor Regulation, U.S. Nuclear Regulatory Commission, Washington, DC 20555-0001, telephone 301-415-1161.

SUPPLEMENTARY INFORMATION:

Background

Regulatory Issue Summary 2000-06, “Consolidated Line Item Improvement Process for Adopting Standard Technical Specification Changes for Power Reactors,” was issued on March 20, 2000. The CLIIP is intended to improve the efficiency of NRC licensing processes. This is accomplished by processing proposed changes to the standard technical specifications (STS) in a manner that supports subsequent license amendment applications. The CLIIP includes an opportunity for the public to comment on proposed changes to the STS following a preliminary assessment by the NRC staff and finding that the change will likely be offered for adoption by licensees. The CLIIP directs the NRC staff to evaluate any comments received for a proposed change to the STS and to either reconsider the change or to proceed with announcing the availability of the change for proposed adoption by licensees. Those licensees opting to apply for the subject change to TS are responsible for reviewing the staff's evaluation, referencing the applicable technical justifications, and providing any necessary plant-specific information. Each amendment application made in response to the notice of availability will be processed and noticed in accordance with applicable rules and NRC procedures.

This notice involves the elimination of requirements for PASS and related administrative controls in TS for BWRs. This proposed change was proposed for incorporation into the STS by the BWR Owners Group (BWROG) participants in the Technical Specification Task Force (TSTF) and is designated TSTF-413. TSTF-413 is supported by the NRC staff's SE dated June 12, 2001, for the BWROG topical report NEDO-32991, “Regulatory Relaxation for BWR Post Accident Sampling Stations (PASS),” which was submitted to the NRC on November 30, 2000. The BWROG request followed the staff's approval of similar requests for elimination of PASS requirements from the Combustion Engineering Owners Group (CEOG) and the Westinghouse Owners Group (WOG). TSTF-413 can be viewed on the NRC Web site, www.nrc.gov.

Applicability

This proposed change to remove requirements for PASS from TS (and other elements of the licensing bases) is applicable to BWRs.

To efficiently process the incoming license amendment applications, the staff requests each licensee applying for the changes addressed by TSTF-413 using the CLIIP to address the following plant-specific verifications and regulatory commitments. The CLIIP does not prevent licensees from requesting an alternative approach or proposing the changes without the requested verifications and regulatory commitments. Variations from the approach recommended in this notice may, however, require additional review by the NRC staff and may increase the time and resources needed for the review. In making the requested regulatory commitments, each licensee should address: (1) That the subject capability exists (or will be developed) and will be maintained; (2) where the capability or procedure will be described (e.g., severe accident management guidelines, emergency operating procedures, emergency plan implementing procedures); and (3) a schedule for implementation. The amendment request need not provide details about designs or procedures.

Each licensee should verify that it has, and make a regulatory commitment to maintain (or make a regulatory commitment to develop and maintain):

a. Contingency plans for obtaining and analyzing highly radioactive samples from the reactor coolant system, suppression pool, and containment atmosphere;

b. A capability for classifying fuel damage events at the Alert level threshold (typically this is 300 μCi/ml dose equivalent iodine). This capability may use a normal sampling system or correlations of radiation readings to coolant concentrations; and

c. an I-131 site survey detection capability, including an ability to assess radioactive iodines released to offsite environs, by using effluent monitoring systems or portable sampling equipment.

Public Notices

In a notice in the Federal Register dated December 27, 2001 (66 FR 66949), the staff requested comment on the use of the CLIIP to process requests to delete post-accident sampling requirements from BWRs. The staff had previously issued a notice of availability (65 FR 65018, October 31, 2000) on the use of the CLIIP to process requests to delete post-accident sampling requirements from plants with Westinghouse and Combustion Engineering designs. The notice of availability for Westinghouse and Combustion Engineering plants followed the staff's disposition of comments received in response to a notice requesting comment (65 FR 49271, August 11, 2000). Each request to eliminate PASS requirements by licensees for Westinghouse and CE plants using the CLIIP has also included notices prior to issuance of the subject license amendments and upon issuance.

TSTF-413, as well as the NRC staff's safety evaluation and model application, may be examined, and/or copied for a fee, at the NRC/s Public Document Room, located at One White Flint North, 11555 Rockville Pike (first floor), Rockville, Maryland. Publicly available records are accessible electronically from the ADAMS Public Library component on the NRC Web site, (the Electronic Reading Room).

The staff did not receive comments following the notice soliciting comments about modifying the TS requirements regarding post accident sampling for BWRs. The staff has made some minor changes to the model safety evaluation as a result of internal reviews. A specific change involves the paragraph that read:

The staff notes that redundant, safety-grade, containment hydrogen concentration monitors are required by 10 CFR 50.44(b)(1), are addressed in NUREG-0737 Item II.F.1 and Regulatory Guide 1.97, and are relied upon to meet the data reporting requirements of 10 CFR part 50, Appendix E, Section VI.2.a.(ii)(3). The staff concludes that during the early phases of an accident, the safety-grade hydrogen monitors provide an adequate capability for monitoring containment hydrogen concentration. The staff sees value in maintaining the capability to obtain grab samples for complementing the information from the hydrogen monitors. * * *

The revised paragraph reads as follows:

The staff notes that containment hydrogen concentration monitors are required by 10 CFR 50.44 and are relied upon to meet the data reporting requirements of 10 CFR part 50, Appendix E, Section VI.2.a.(ii)(3). The staff concludes that these hydrogen monitors provide an adequate capability for monitoring containment hydrogen concentration during the early phases of an accident. The staff sees value in maintaining the capability to obtain grab samples for complementing the information from the hydrogen monitors. * * *

The change was made to reflect a likely revision to the requirements in 10 CFR 50.44 and does not significantly affect the technical basis of the staff's findings or revise the verifications and commitments identified in the model SE.

As described in the model application prepared by the staff, licensees may reference in their plant-specific applications to eliminate PASS-related TS the SE (as revised above), NSHC determination, and environmental assessment previously published in the Federal Register (66 FR 66949, December 27, 2001).

Dated at Rockville, Maryland, this 13th day of March 2002.
For the Nuclear Regulatory Commission.
William D. Beckner,
Program Director, Operating Reactor Improvements, Division of Regulatory Improvement Programs, Office of Nuclear Reactor Regulation.

[FR Doc. 02-6690 Filed 3-19-02; 8:45 am]

BILLING CODE 7590-01-P